DEPARTMENT OF TRANSPORTATION

Federal Aviation Administration

Notice of Intent To Rule on Application 05-09-C-00-DSM To Impose and Use the Revenue From a Passenger Facility Charge (PFC) at Des Moines International Airport, Des Moines, IA

AGENCY: Federal Aviation Administration (FAA), DOT.

ACTION: Notice of intent to rule on application.

SUMMARY: The FAA proposes to rule land invites public comment on the application to impose and use the revenue from a PFC at Des Moines International Airport under the provisions of the 49 U.S.C. 40117 and Part 158 of the Federal Aviation Regulations (14 CFR Part 158).

DATES: Comments must be received on or before date which is 30 days after date of the publication in the Federal Register.

ADDRESSES: Comments on this application may be mailed or delivered in triplicate to the FAA at the following address: 901 Locust, Kansas City, MO 64106.

In addition, one copy of any comments submitted to the FAA must be mailed or delivered to Michael R. Salamone, Deputy Director Aviation Finance and Administration, Des Moines International Airport, 5800 Fleur Drive, Des Moines, IA 50321.

Air carriers and foreign air carriers may submit copies of written comments previously provided to the City of Des Moines under section 158.23 of Part 158.

FOR FURTHER INFORMATION CONTACT: Lorna K. Sandridge, PFC Program Manager, 901 Locust, Kansas City, MO 64106, (816) 329-2641. The application may be reviewed in person at this same location.

SUPPLEMENTARY INFORMATION: The FAA proposed to rule and invites public comment on the application to impose and use the revenue from a PFC at Des Moines International Airport under the provisions of the 49 U.S.C. 40117 and Part 158 of the Federal Aviation Regulations (14 CFR Part 158).

On May 16, 2005, the FAA determined that the application to impose and use the revenue from a PFC submitted by the City of Des Moines was substantially complete within the requirements of section 158.25 of Part 158. The FAA will approve or disapprove the application, in whole or in part, no later than August 16, 2005.

The following is a brief overview of the application.

Proposed charge effective date: January 1, 2012.

Proposed charge expiration date: August 1, 2015.

Level of the proposed PFC: $4.50.

Total estimated PFC revenue: $10,577,162.

Brief description of proposed project(s): Airport access control system, construct Runway 5/23 extension, noise compatibility program, extend Taxiway P, runway and taxiway signage, terminal apron reconstruction, Runway 31 Category II centerline lights, south cargo ramp extension, southeast service road relocation, security gate upgrade, rehabilitation of Runway 13L/3R, and land acquisition for Runway 13R/31L.

Class or classes of air carriers which the public agency has requested not be required to collect PFCs: Part 135 Air Taxi/Commercial Operators (ATCO).

Any person may inspect the application in person at the FAA office listed above under For Further Information Contact and at the FASA regional Airports office located at: 901 Locust, Kansas City, MO 64106.

In addition, any person may, upon request, inspect the application, notice and other documents germane to the application in person at the Des Moines International Airport.

Issued in Kansas City, Missouri on May 16, 2005.
George A. Hendon,
Manager, Airports Division Central Region.

[FR Doc. 05-10605 Filed 5-26-05; 8:45 am]

BILLING CODE 4910-13-M